DEPARTMENT OF COMMERCE

National Oceanic and Atmospheric Administration

RIN 0684-XD708

North Pacific Fishery Management Council; Public Meetings

AGENCY: National Marine Fisheries Service (NMFS), National Oceanic and Atmospheric Administration (NOAA), Commerce.

ACTION: Notice of public meetings.

SUMMARY: The North Pacific Fishery Management Council (Council) and its advisory committees will hold public meetings, February 4-10, 2015.

DATES: The Council will begin its plenary session at 8 a.m. on Wednesday, February 4, 2015 continuing through Tuesday, February 10, 2015. The Scientific Statistical Committee (SSC) will begin at 8 a.m. on Monday, February 2 and continue through Wednesday, February 4, 2015. The Council's Advisory Panel (AP) will begin at 8 a.m. on Tuesday, February 3, and continue through Saturday, February 7, 2015. The Enforcement Committee will meet from 1 p.m. to 4 p.m. on Tuesday, February 3, 2015. All meetings are open to the public, except executive sessions.

ADDRESSES: The meetings will be held at the Renaissance Hotel, 515 Madison Street, Seattle, WA.

Council address: North Pacific Fishery Management Council, 605 W. 4th Avenue, Suite 306, Anchorage, AK 99501-2252.

FOR FURTHER INFORMATION CONTACT: David Witherell, Council staff, telephone: (907) 271-2809.

SUPPLEMENTARY INFORMATION:

Council Plenary Session: The agenda for the Council's plenary session will include the following issues. The Council may take appropriate action on any of the issues identified.

1. Executive Director's Report (including NOAA Climate Strategy and Arctic Update (T)) NMFS Management Report (including an update on the Aleutian Island sanctuary nomination).

ADF&G Report

U.S. Coast Guard Report

USFWS Report

International Pacific Halibut Commission Report

Protected Species Report

2. Final action on CDQ Pacific Cod Fishery Development;

3. Review of Electronic Monitoring (EM) research plan;

4. Initial review of AI Pacific cod Allocation discussion paper;

5. SSC review of Halibut Total Mortality Accounting;

6. Initial review of Bering Sea Halibut Prohibited Species Catch (PSC); Update on Industry sector reports on Bering Sea halibut bycatch; Halibut Deck Sorting Scales Exempted Fishing Permit (EFP);

7. Discussion paper on GOA Tendering (2015);

8. BSAI Crab 10-year Review: Develop Workplan (T);

9. Norton Sound Red King Crab Overfishing Level/Acceptable Biological Catch (OFL/ABCs);

10. Crab Modeling Report (SSC Only);

11. Research Priorities plan team report: SSC only;

12. Essential Fish Habitat (EFH) 5-year Review update: SSC only;

13. Staff Tasking.

The Advisory Panel will address most of the same agenda issues as the Council except B reports.

The SSC agenda will include the following issues:

1. EM Research Plan

2. Norton Sound RKC OFL/ABCs

3. Crab remodeling report

4. Research Priorities

5. EFH 5-year review

6. Halibut Total mortality

7. Bering Sea Halibut PSC

8. Review Economic Stock Assessment Evaluation Report

In addition to providing ongoing scientific advice for fishery management decisions, the SSC functions as the Councils primary peer review panel for scientific information as described by the Magnuson-Stevens Act section 302(g)(1)(e), and the National Standard 2 guidelines (78 FR 43066). The peer review process is also deemed to satisfy the requirements of the Information Quality Act, including the OMB Peer Review Bulletin guidelines.

The Agenda is subject to change, and the latest version will be posted at http://www.npfmc.org. Background documents, reports, and analyses for review are posted on the Council Web site in advance of the meeting. The names and organizational affiliations of SSC members are also posted on the Web site.

Special Accommodations

These meetings are physically accessible to people with disabilities. Requests for sign language interpretation or other auxiliary aids should be directed to Gail Bendixen at (907) 271-2809 at least 7 working days prior to the meeting date.

Dated: January 13, 2015.
Tracey L. Thompson,
Acting Deputy Director, Office of Sustainable Fisheries, National Marine Fisheries Service.

[FR Doc. 2015-00611 Filed 1-15-15; 8:45 am]

BILLING CODE 3510-22-P